DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

New (1160) Pipe Integrity in High Consequence Areas (HCAs)

New (1133) Guidelines for Onshore Hydrocarbon Pipelines Crossing Floodplains

1109 Marking Liquid Petroleum Pipeline Facilities

1129 Assurance of Hazardous Liquid Pipeline System Integrity

1130 Computational Pipeline Monitoring

For Further Information Contact: Andrea Johnson, Standards and Training Resource Group, email: johnsona@api.org.

Committee on Marketing

New (1582) Similarity Calculations and Software for Aviation Jet Fuel Filter/Separators

2610 Design, Construction, Operation, Maintenance, and Inspection of Terminal and Tank Facilities

1621 Bulk Liquid Stock Control at Retail Outlets

1584 Four-inch Aviation Hydrant System

1585 Guidance for Cleaning Hydrant Systems

1004 Bottom Loading and Vapor Recovery for MC-306 Tank Motor Vehicles

2510 Design and Construction of Liquefied Petroleum Gas Installations

1501 Recommended Practice for Retail or Consumer Aviation Fueling Facilities

1560 Lubricant Service Designations for Automotive Manual Transmissions, Manual Transaxles, and Axles

1621 Bulk Liquid Stock Control

1631 Interior Lining of Underground Storage Tanks

1637A Equipment Marking Color System Chart

For Further Information Contact: David Soffrin, Standards and Training Resource Group, email: soffrind@api.org.

Committee on Refining

575 Inspection of Atmospheric & Low Pressure Storage Tanks

577 Welding Inspection and Metallurgy

530 Calculation of Heater Tube Thickness in Petroleum Refineries

661 Air-Cooled Heat Exchangers

662 Plate Heat Exchangers

598 Fire Test for Evaluation of Valve Stem Packing

599 Metal Plug Valves

600 Steel Gate Valves

608 Metal Ball Valves

620 Design & Construction of Large Welded LP Tanks

650 Welded Steel Tanks for Oil Storage

653 Tank Repair, Inspection, and Alteration

610 Centrifugal Pumps

612 Steam Turbines

617 Centrifugal Compressors

673 Centrifugal Air Compressors

682 Shaft Sealing Systems for Centrifugal and Rotary Pumps

687 Rotor Repair

541 FWSC Induction Motors

545 Lightning Protection for Storage Tanks

552 Transmission Systems

526 Flanged Steel Pressure Relief Valves

Meetings/Conferences: The Spring Refining Meeting will be held May 7-9, 2001, in Atlanta, Georgia at the Hyatt Regency Hotel. The Fall Refining Meeting will be held September 24-26, 2001, in Los Angeles, California at the Westin Bonaventure Hotel. Interested parties may visit the API Events calendar at http://www.api.org/events for more information regarding participation in these meetings.

For Further Information Contact: David Miller, Standards and Training Resource Group, email: miller@api.org.

Committee on Safety and Fire Protection

2003 Venting Atmospheric and Low-Pressure Tanks

2015 Standard on Safe Entry and Cleaning of Petroleum Storage Tanks

New (2016) Recommended Practice for Safe Entry and Cleaning of Petroleum Tanks

2023 Guide for Safe Storage of Asphalt

2027 Ignition Hazards

2028 Flame Arrestors for Piping Systems

2216 Ignition Risks of Vapors

2350 Overfill Protection

For Further Information Contact: David Soffrin, Standards and Training Resource Group, email: soffrind@api.org.

Committee on Petroleum Measurement

2.2C Calibration of Tanks by Optimal Methods

7.0 Temperature Determination

8 Sampling, Parts 1-4

9.1 Hydrometer Test of Crude Oil

9.2 Pressure Hydrometer Test Method for Density or Relative Density

9.3 TH Test Method for Density and API Gravity of Crude

10.1 Determination of Sediment in Crude Oil

10.3 Determination of Water and Sediment in Crude Oil

10.5 Determination of Water in Petroleum Products by Distillation

10.6 Determination of Water in Petroleum Products by Centrifuge

10.6 Test for Water in Crude Oil by KF Method

10.9 Test for Water in Crude Oil by CKF Method

11.1 VCF, incorporating all Chapter 11.1 Volume I through Volume XIV, 11.2.1, 11.2.1M

New (11.2) Compressibility Factors

14.1 Natural Gas Sampling

15 SI Guidelines

19.1 Fixed Roof Tanks

19.3 Part D, Fugitive Emissions

Draft Standard of Measurement of Crude Oil by Coriolis Meter

Meetings/Conferences: The Spring Measurement Meeting will be held March 26-30, 2001, in San Antonio, Texas at the Hyatt Regency Hotel. The Fall Measurement Meeting will be held October 15-19, 2001, in Memphis, Tennessee at the Peabody Hotel. Interested parties may visit the API Events calendar at http://www.api.org/events for more information regarding participation in these meetings.

FOR FURTHER INFORMATION CONTACT: Jon Noxon, Standards and Training Resource Group, email: noxonj@api.org.

Committee on Exploration and Production:

2B Offshore Tubulars

2C Offshore Cranes

2MT1 Carbon Manganese Steel Plates

5B Threading and Gauging

5CT Casing & Tubing

5L Line Pipe

6A Valves and Wellhead Equipment

6AF Capabilities of API Flanges

6D Pipeline Valves

6J Testing Elastomers

4F Drilling & Well Servicing Equipment

7 Rotary Drill Stem Elements

7K Drilling Equipment

7L Inspection, Maintenance, Repair & Remanufacture of Drilling Equipment

8A Drilling & Production Hoisting Equipment

8B Inspection, Maintenance, Repair & Remanufacture of Hoisting Equipment

8C Drilling & Production Hoisting Equipment, PSL1/2

10A Well Cements

10D Casing Centralizers

New Packer Specification

11S4 Sizing & Selection of ESPIs

13A Drilling Fluid Materials

13B-2 Field Testing Oil-based Fluids

New (14FZ) Offshore Electrical Systems/Zone Classification

14J Offshore Hazards Analysis

15HR High Pressure Pipe

15LE PE Pipe

15LR Low Pressure Pipe

16C Choke & Kill Systems

16D Control Systems

17A Design and Operation of Subsea Production Systems

17B Flexible Pipe

17C TFL Systems

New (17F) Design and Operation of Subsea Production Control Systems

17J Unbonded Flexible Pipe

New (17K) Bonded Flexible Pipe

59 Well Control Practices

64 Diverter Systems

T2 Training Personnel using OSAPE

Meetings/Conferences: The Summer Standardization Measurement Meeting will be held June 25-29, 2001, in Calgary, Alberta, Canada at the Hyatt Regency Hotel. Interested parties may visit the API Events calendar at http://www.api.org/events for more information regarding participation in this meeting.

For Further Information Contact: Mike Spanhel, Standards and Training Resource Group, email: spanhel@api.org.

Dated: February 27, 2001.
Karen Brown,
Acting Director.

[FR Doc. 01-5381 Filed 3-5-01; 8:45 am]

BILLING CODE 3510-13-M